DEPARTMENT OF ENERGY

Federal Energy Regulatory Commission

Combined Notice of Filings #1

May 26, 2009.

Take notice that the Commission received the following electric corporate filings:

Docket Numbers: EC09-80-000.

Applicants: North Allegheny Wind, LLC, Gamesa Energy USA, LLC, DEGS Wind I, LLC.

Description: Application of Gamesa Energy USA, LLC, et al. for Disposition of Jurisdictional Facilities, Request for Shortened Notice Period and Expedited Treatment, and Request for Confidential Treatment.

Filed Date: 05/21/2009.

Accession Number: 20090521-5031.

Comment Date: 5 p.m. Eastern Time on Thursday, June 11, 2009.

Docket Numbers: EC09-81-000.

Applicants: Barclays Bank PLC, Barclays Capital Energy, Inc., Barclays PLC.

Description: Application for Authorization to Sell Securities and Request for Expedited Treatment.

Filed Date: 05/22/2009.

Accession Number: 20090522-5117.

Comment Date: 5 p.m. Eastern Time on Friday, June 12, 2009.

Docket Numbers: EC09-82-000.

Applicants: Barclays Bank PLC, Barclays Capital Energy, Inc., Barclays PLC.

Description: Application for Authorization to Sell Securities and Request for Expedited Treatment.

Filed Date: 05/22/2009.

Accession Number: 20090522-5118.

Comment Date: 5 p.m. Eastern Time on Friday, June 12, 2009.

Docket Numbers: EC09-83-000.

Applicants: Rail Splitter Wind Farm, LLC.

Description: Application for Authorization for Disposition of Jurisdictional Facilities and Request for Expedited Action of Rail Splitter Wind Farm, LLC.

Filed Date: 05/22/2009.

Accession Number: 20090522-5130.

Comment Date: 5 p.m. Eastern Time on Friday, June 12, 2009.

Take notice that the Commission received the following exempt wholesale generator filings:

Docket Numbers: EG09-43-000.

Applicants: Hoosier Wind Project, LLC.

Description: Exempt Wholesale Generator Self Certification Notice of Hoosier Wind Project, LLC.

Filed Date: 05/22/2009.

Accession Number: 20090522-5067.

Comment Date: 5 p.m. Eastern Time on Friday, June 12, 2009.

Take notice that the Commission received the following electric rate filings:

Docket Numbers: ER98-4590-028.

Applicants: Public Service Company of Colorado.

Description: Public Service Company of Colorado submits change in status report relating to PSCo's market-based rate authority.

Filed Date: 05/20/2009.

Accession Number: 20090521-0095.

Comment Date: 5 p.m. Eastern Time on Wednesday, June 10, 2009.

Docket Numbers: ER08-824-003.

Applicants: PJM Interconnection, LLC.

Description: PJM Interconnection, LLC submits filing in compliance with Commission 06/12/08 order.

Filed Date: 05/21/2009.

Accession Number: 20090522-0128.

Comment Date: 5 p.m. Eastern Time on Thursday, June 11, 2009.

Docket Numbers: ER09-582-002.

Applicants: American Electric Power Service Corporation.

Description: AEP Operating Companies submits an amendment to the eleventh revised Repair and Maintenance Agreement signed between Indiana Michigan Power Company et al. on 12/11/89.

Filed Date: 05/20/2009.

Accession Number: 20090521-0091.

Comment Date: 5 p.m. Eastern Time on Wednesday, June 10, 2009.

Docket Numbers: ER09-503-001.

Applicants: BC Landfill Energy LLC.

Description: BC Landfill Energy, LLC submits revisions to its FERC Electric Tariff No. 1 et al.

Filed Date: 05/22/2009.

Accession Number: 20090522-0112.

Comment Date: 5 p.m. Eastern Time on Friday, June 12, 2009.

Docket Numbers: ER09-504-001.

Applicants: AC Landfill Energy, LLC.

Description: AC Landfill Energy, LLC submits amendments to its FERC Electric Tariff, Original Volume No. 1 pursuant to FERC's 5/1/09 Order.

Filed Date: 05/22/2009.

Accession Number: 20090522-0108.

Comment Date: 5 p.m. Eastern Time on Friday, June 12, 2009.

Docket Numbers: ER09-505-001.

Applicants: WC Landfill Energy, LLC.

Description: WC Landfill Energy submits First Revised Sheet 1 et al. to FERC Electric Tariff, Original Volume 1.

Filed Date: 05/22/2009.

Accession Number: 20090522-0107.

Comment Date: 5 p.m. Eastern Time on Friday, June 12, 2009.

Docket Numbers: ER09-613-001.

Applicants: Cross Sound Cable Company, LLC.

Description: Cross-Sound Cable Company, LLC submits filing in compliance with the 3/31/09 Order, to incorporate into Attachment Z to Schedule 18 of the ISO NE OATT Wholesale Electric Quadrant Standard.

Filed Date: 05/21/2009.

Accession Number: 20090522-0127.

Comment Date: 5 p.m. Eastern Time on Thursday, June 11, 2009.

Docket Numbers: ER09-747-000.

Applicants: Robbins Energy LLC.

Description: Robbins Energy LLC submits a revised Asset Appendix to its Application filed on 2/13/09 for authorization to make wholesale sales of energy and capacity at negotiated, market-based rates.

Filed Date: 05/18/2009.

Accession Number: 20090520-0020.

Comment Date: 5 p.m. Eastern Time on Monday, June 08, 2009.

Docket Numbers: ER09-895-001.

Applicants: Wisconsin Electric Power Company.

Description: Wisconsin Electric Power Company submits for acceptance Second Substitute First Revised Sheet 2 et al. to FERC Electric Tariff, Rate Schedule 118.

Filed Date: 05/20/2009.

Accession Number: 20090521-0090.

Comment Date: 5 p.m. Eastern Time on Wednesday, June 10, 2009.

Docket Numbers: ER09-914-001.

Applicants: Otter Tail Power Company.

Description: Otter Tail Power Company submits for acceptance Substitute Original Service Agreement 42 et al. to FERC Electric Tariff, Original Volume 2.

Filed Date: 05/22/2009.

Accession Number: 20090526-0065.

Comment Date: 5 p.m. Eastern Time on Monday, June 01, 2009.

Docket Numbers: ER09-1075-001.

Applicants: Falcon Energy, LLC.

Description: Falcon Energy, LLC submits an Amended, Revised and Restated Application for Market-Based Rate Authorization and Request for Waivers and Blanket Authorizations etc.

Filed Date: 05/18/2009.

Accession Number: 20090519-0167.

Comment Date: 5 p.m. Eastern Time on Monday, June 08, 2009.

Docket Numbers: ER09-1146-000.

Applicants: Lafarge Midwest, Inc.

Description: Application of LaFarge Midwest, Inc. for an Order granting market-based rate tariff, granting blanket authorizations and waiving regulations and for expedited review.

Filed Date: 05/21/2009.

Accession Number: 20090521-0049.

Comment Date: 5 p.m. Eastern Time on Thursday, June 11, 2009.

Docket Numbers: ER09-1171-000.

Applicants: California Independent System Operator Corporation.

Description: California Independent System Operator Corp. submits an informational filing that is intended to provide notice regarding the ISO's further revised transmission access charges effective 3/1/09.

Filed Date: 05/19/2009.

Accession Number: 20090520-0003.

Comment Date: 5 p.m. Eastern Time on Tuesday, June 09, 2009.

Docket Numbers: ER09-1172-000.

Applicants: Southwest Power Pool, Inc.

Description: Southwest Power Pool submits an executed service agreement for Firm Point-to-Point Transmission Service between SPP as Transmission Provider and Kansas City Board of Public Utilities as Transmission Customer.

Filed Date: 05/19/2009.

Accession Number: 20090520-0002.

Comment Date: 5 p.m. Eastern Time on Tuesday, June 09, 2009.

Docket Numbers: ER09-1173-000.

Applicants: Vermont Transco LLC.

Description: Vermont Transco LLC submits Large Generator Agreement et al.

Filed Date: 05/18/2009.

Accession Number: 20090520-0001.

Comment Date: 5 p.m. Eastern Time on Monday, June 08, 2009.

Docket Numbers: ER09-1174-000.

Applicants: Southwest Power Pool, Inc.

Description: Southwest Power Pool, Inc. submits an executed service agreement for firm point-to-point transmission service with Kansas City Board of Public Utilities.

Filed Date: 05/19/2009.

Accession Number: 20090520-0093.

Comment Date: 5 p.m. Eastern Time on Tuesday, June 09, 2009.

Docket Numbers: ER09-1175-000.

Applicants: PacifiCorp.

Description: PacifiCorp submits revised appendix A for Second Revised Rate Schedule FERC No. 280 et al.

Filed Date: 05/19/2009.

Accession Number: 20090520-0094.

Comment Date: 5 p.m. Eastern Time on Tuesday, June 09, 2009.

Docket Numbers: ER09-1176-000.

Applicants: Xcel Energy Services Inc.

Description: NSP Companies submits proposed termination of various Market-Based Electric Service Agreement under the NSP FERC Electric Tariff, Original Volume 5 etc.

Filed Date: 05/20/2009.

Accession Number: 20090521-0088.

Comment Date: 5 p.m. Eastern Time on Wednesday, June 10, 2009.

Docket Numbers: ER09-1177-000.

Applicants: Southwest Power Pool, Inc.

Description: Southwest Power Pool, Inc. submits an executed Large Generator Interconnection Agreement between SPP as Transmission Provider, KC&L Greater Missouri Operations Company as Transmission Owner et al.

Filed Date: 05/20/2009.

Accession Number: 20090521-0092.

Comment Date: 5 p.m. Eastern Time on Wednesday, June 10, 2009.

Docket Numbers: ER09-1178-000.

Applicants: Public Service Company of New Mexico.

Description: Public Service Company of New Mexico submits its Second Revised Volume 6 Open Access Transmission Tariff.

Filed Date: 05/20/2009.

Accession Number: 20090521-0093.

Comment Date: 5 p.m. Eastern Time on Wednesday, June 10, 2009.

Docket Numbers: ER09-1179-000.

Applicants: Pacific Gas and Electric Company.

Description: Pacific Gas and Electric Co. submits an amendment to extended agreements for wholesale distribution service and interconnection.

Filed Date: 05/20/2009.

Accession Number: 20090521-0089.

Comment Date: 5 p.m. Eastern Time on Wednesday, June 10, 2009.

Docket Numbers: ER09-1181-000.

Applicants: Hoosier Wind Project, LLC.

Description: Hoosier Wind, LLC submits petition requesting acceptance of FERC Electric Tariff, Original Volume No. 1.

Filed Date: 05/22/2009.

Accession Number: 20090522-0111.

Comment Date: 5 p.m. Eastern Time on Friday, June 12, 2009.

Docket Numbers: ER09-1182-000.

Applicants: NaturEner Montana Wind Energy 2, LLC.

Description: NaturEner Montana Wind Energy 2, LLC submits a application for market-based rate authority, request for waivers and pre-approvals etc.

Filed Date: 05/22/2009.

Accession Number: 20090522-0106.

Comment Date: 5 p.m. Eastern Time on Friday, June 12, 2009.

Docket Numbers: ER09-1183-000.

Applicants: NaturEner Glacier Wind Energy 2, LLC.

Description: NaturEner Glacier Wind Energy 2, LLC submits application for market-based rate authority, et al.

Filed Date: 05/22/2009.

Accession Number: 20090522-0109.

Comment Date: 5 p.m. Eastern Time on Friday, June 12, 2009.

Docket Numbers: ER09-1184-000.

Applicants: NaturEner Power Watch, LLC.

Description: NaturEner Power Watch, LLC submits application for market-based rate authority, et al.

Filed Date: 05/22/2009.

Accession Number: 20090522-0110.

Comment Date: 5 p.m. Eastern Time on Friday, June 12, 2009.

Docket Numbers: ER09-1185-000.

Applicants: Entergy Services, Inc.

Description: Entergy submits First Revised Sheet 54 to Third Revised Rate Schedule FERC No. 94 et al.

Filed Date: 05/21/2009.

Accession Number: 20090522-0069.

Comment Date: 5 p.m. Eastern Time on Thursday, June 11, 2009.

Docket Numbers: ER09-1186-000.

Applicants: New York Independent System Operator, Inc.

Description: New York Independent System Operator, Inc. submits for acceptance Third Revised Sheet 140.01 et al. to FERC Electric Tariff, Original Volume 2 to be effective 7/20/09.

Filed Date: 05/21/2009.

Accession Number: 20090522-0068.

Comment Date: 5 p.m. Eastern Time on Thursday, June 11, 2009.

Docket Numbers: ER09-1187-000.

Applicants: New York Independent System Operator, Inc.

Description: New York Independent System Operator submits proposed revisions to its Market Administration and Control Area Services Tariff and its Open Access Transmission Tariff etc.

Filed Date: 05/21/2009.

Accession Number: 20090522-0070.

Comment Date: 5 p.m. Eastern Time on Thursday, June 11, 2009.

Docket Numbers: ER09-1188-000.

Applicants: Pacific Gas and Electric Company.

Description: Pacific Gas and Electric Co submits a letter of agreement for Phase 1 of a temporary project.

Filed Date: 05/22/2009.

Accession Number: 20090522-0093.

Comment Date: 5 p.m. Eastern Time on Friday, June 12, 2009.

Docket Numbers: ER09-1189-000.

Applicants: Hess Energy, Inc.

Description: Hess Energy, Inc submits Notice of Cancellation of First Revised Sheet 1 et al. to FERC Electric Tariff, Rate Schedule 1 to be effective 7/21/09.

Filed Date: 05/22/2009.

Accession Number: 20090522-0098.

Comment Date: 5 p.m. Eastern Time on Friday, June 12, 2009.

Docket Numbers: ER09-1190-000.

Applicants: PacifiCorp.

Description: PacifiCorp submits First Revised Sheet 27 et al to FERC Rate Schedule 286.

Filed Date: 05/22/2009.

Accession Number: 20090522-0100.

Comment Date: 5 p.m. Eastern Time on Friday, June 12, 2009.

Docket Numbers: ER09-1191-000.

Applicants: California Independent System Operator Corporation.

Description: California Independent System Operator Corporation submits Original Sheet 714C to FERC Electric Tariff, Fourth Replacement Volume 1 to be effective 6/23/09.

Filed Date: 05/22/2009.

Accession Number: 20090522-0099.

Comment Date: 5 p.m. Eastern Time on Friday, June 12, 2009.

Docket Numbers: ER09-1192-000.

Applicants: Southwest Power Pool Inc.

Description: Southwest Power Pool Inc submits for acceptance Second Revised Sheet 2 et al to FERC Original Volume 4—Bylaws to be effective 7/22/09.

Filed Date: 05/22/2009.

Accession Number: 20090526-0064.

Comment Date: 5 p.m. Eastern Time on Friday, June 12, 2009.

Take notice that the Commission received the following open access transmission tariff filings:

Docket Numbers: OA08-52-006.

Applicants: New York Independent System Operator, Inc.

Description: New York Transmission Owners et al. submits revisions to Attachment Y of the NYISO Open Access Transmission Tariff to address the Commission's directives in the October 16, 2008 Order.

Filed Date: 05/19/2009.

Accession Number: 20090520-0103.

Comment Date: 5 p.m. Eastern Time on Tuesday, June 09, 2009

.

Take notice that the Commission received the following electric reliability filings:

Docket Numbers: RR09-4-000.

Applicants: North American Electric Reliability Corp.

Description: Petition of North American Electric Reliability Corporation for Approval of Revisions to Bylaws of Southwest Power Pool, Inc.

Filed Date: 05/21/2009.

Accession Number: 20090521-5095.

Comment Date: 5 p.m. Eastern Time on Thursday, June 11, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-12728 Filed 6-1-09; 8:45 am]

BILLING CODE 6717-01-P